DEPARTMENT OF TRANSPORTATION

Federal Aviation Administration

14 CFR Part 97

[Docket No. 30121; Amdt. No. 2002]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, additional of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on July 21, 2000.
L. Nicholas Lacey,
Director, Flight Standards Service.

Adoption of the Amendment

According, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

. . . Effective Upon Publication

FDC date | State | City | Airport | FDC No. | SIAP
06/09/00 | CA | Avalon | Avalon/Catalina | 0/6201 | VOR or GPS-A Amdt 4...
06/09/00 | CA | Avalon | Avalon/Catalina | 0/6202 | VOR/DME or GPS-B Amdt 2...
06/09/00 | CA | Sacremento | Sacramento Intl | 0/6191 | NDB Rwy 16L Amdt 1...
06/16/00 | IA | Storm Lake | Storm Lake Muni | 0/6523 | NDB Rwy 35, Amdt 1A...
06/16/00 | PA | Bradford | Bradford Regional | 0/5160 | VOR/DME or GPS Rwy 14 Amdt 8B...
07/05/00 | KS | Iola | Allen County | 0/7357 | NDB Rwy 1, Amdt 1...
07/05/00 | KS | Iola | Allen County | 0/7359 | GPS Rwy 19, Orig...
07/05/00 | KS | Iola | Allen County | 0/7360 | GPS Rwy 1, Orig...
07/11/00 | AK | Mountain Village | Mountain Village | 0/7561 | GPS Rwy 20, Orig-A...
07/11/00 | AK | Mountain Village | Mountain Village | 0/7562 | GPS Rwy 2, Orig-A...
07/11/00 | GA | Dawson | Dawson Muni | 0/7566 | GPS Rwy 31, Orig...
07/11/00 | IL | Peoria | Greater Peoria Regional | 0/7556 | VOR/DME RNAV Rwy 4, Amdt 6...
07/11/00 | MI | Charlevoix | Charlevoix Muni | 0/7574 | NDB or GPS Rwy 27, Amdt 10...
07/11/00 | TX | Tyler | Tyler Pounds Field | 0/7575 | ILS Rwy 13, Amdt 20B...
07/12/00 | GA | Dawson | Dawson Muni | 0/7619 | VOR/DME Rwy 31, Orig...
07/12/00 | IL | Chicago | Chicago-O'Hare Intl | 0/7638 | ILS Rwy 22L, Amdt 4B...
07/12/00 | IN | Evansville | Evansville Regional | 0/7597 | VOR or GPS Rwy 4, Amdt 5A...
07/12/00 | LA | Jennings | Jennings | 0/7639 | GPS Rwy 8, Orig...
07/12/00 | TN | Crossville | Crossville Memorial-Whitson Field | 0/7681 | ILS Rwy 26, Amdt 11B...
07/13/00 | IN | Wabash | Wabash Muni | 0/7704 | NDB Rwy 27, Amdt 12...
07/13/00 | IN | Wabash | Wabash Muni | 0/7705 | GPS Rwy 27, Orig...
07/13/00 | KS | Fort Leavenworth | Sherman AAF | 0/7717 | VOR/DME-A, Orig...
07/13/00 | LA | Jennings | Jennings | 0/7719 | VOR/DME Rwy 8, Orig...
07/13/00 | TX | Abilene | Abilene Regional | 0/7709 | GPS Rwy 35R, Orig-B...
07/13/00 | TX | Abilene | Abilene Regional | 0/7710 | NDB Rwy 35R Amdt 5C...
07/13/00 | TX | Abilene | Abilene Regional | 0/7711 | ILS Rwy 35R, Amdt 6B...
07/13/00 | VA | Norfolk | Norfolk Intl | 0/7713 | ILS Rwy 5 Amdt 24B...
07/14/00 | LA | Houma | Houma-Terrebonne | 0/7753 | GPS Rwy 36, Orig...
07/14/00 | TX | Abilene | Abilene Regional | 0/7750 | LOC BC Rwy 17L, Amdt 3A...
07/14/00 | TX | Wichita Falls | Kickapoo Downtown Airpark | 0/7731 | VOR/DME RNAV or GPS Rwy 35, Amdt 3...
07/14/00 | VA | Richmond/Ashland | Hanover County Muni | 0/7754 | NDB Rwy 16 Orig-B...
07/17/00 | LA | Houma | Houma-Terrebonne | 0/7854 | GPS Rwy 12, Amdt 1...
07/17/00 | NC | Concord | Concord Regional | 0/7853 | ILS Rwy 20, Orig-B...
07/18/00 | CT | Windsor Locks | Bradley Intl | 0/7898 | HI-TACAN or VOR/DME Rwy 6 Orig...
07/18/00 | CT | Windsor Locks | Bradley Intl | 0/7900 | VOR or TACAN Rwy 6 Orig...
07/18/00 | CT | Windsor Locks | Bradley Intl | 0/7901 | VOR or TACAN Rwy 24 Orig...
07/18/00 | NJ | Newark | Newark Intl | 0/7897 | VOR Rwy 11 Amdt 1B...
07/19/00 | AL | Monroeville | Monroe County | 0/7957 | VOR or GPS Rwy 21, Amdt 8A...
07/19/00 | DC | Washington | Ronald Reagan Washington National | 0/7952 | VOR/DME RNAV or GPS Rwy 3 Amdt 6A...
07/19/00 | LA | Baton Rouge | Baton Rouge Metropolitan/Ryan Field | 0/7975 | ILS Rwy 22R, Amdt 9...
07/19/00 | LA | Baton Rouge | Baton Rouge Metropolitan/Ryan Field | 0/7977 | LOC BC Rwy 4L, Amdt 6B...
07/19/00 | LA | Baton Rouge | Baton Rouge Metropolitan/Ryan Field | 0/7978 | VOR/DME Rwy 22R, Amdt 8A...
07/19/00 | LA | Baton Rouge | Baton Rouge Metropolitan/Ryan Field | 0/7979 | VOR or GPS Rwy 4L, Amdt 16A...
07/19/00 | LA | Houma | Houma-Terrebonne | 0/7947 | VOR Rwy 12, Amdt 5...
07/19/00 | NV | Elko | Elko | 0/7941 | VOR/DME or GPS-B Amdt 3...
07/19/00 | VA | Richmond/Ashland | Hanover County Muni | 0/7970 | VOR Rwy 16 Orig-C...

[FR Doc. 00-18990 Filed 7-26-00; 8:45 am]

BILLING CODE 4910-13-M